DEPARTMENT OF COMMERCE

International Trade Administration

Virginia Polytechnic Institute, et al.; Notice of Decision on Applications for Duty-Free Entry of Scientific Instruments

This is a decision pursuant to Section 6(c) of the Educational, Scientific, and Cultural Materials Importation Act of 1966 (Pub. L. 89-651, as amended by Pub. L. 106-36; 80 Stat. 897; 15 CFR part 301). Related records can be viewed between 8:30 a.m. and 5 p.m. in Room 3720, U.S. Department of Commerce, 14th and Constitution Ave., NW., Washington, DC.

Docket Number: 11-039. Applicant: Virginia Polytechnic Institute, Department of Engineering Science and Mechanics, Blacksburg, VA 24061. Instrument: Nano test platform. Manufacturer: Micro Materials Ltd., United Kingdom. Intended Use: See notice at 76 FR 43263, July 20, 2011. Comments: None received. Decision: Approved. We know of no instruments of equivalent scientific value to the foreign instruments described below, for such purposes as this is intended to be used, that was being manufactured in the United States at the time of its order. Reasons: This instrument is unique in that it can support the technical requirements for high temperature nanoindentations, nanoimpact, nanofatigue and wet stage nanoindentation.

Docket Number: 11-040. Applicant: University of Colorado at Boulder, Procurement Service Center, Denver, CO 80202. Instrument: Low-temperature atomic force microscope. Manufacturer: Attocube Systems AG, Germany. Intended Use: See notice at 76 FR 43263, July 20, 2011. Comments: None received. Decision: Approved. We know of no instruments of equivalent scientific value to the foreign instruments described below, for such purposes as this is intended to be used, that was being manufactured in the United States at the time of its order. Reasons: This instrument must be compatible with high magnetic fields, which requires a special selection of non-magnetic materials the instrument has to be built from. The low-temperature capability requires special piezoelectric scanners and sample mounting and cooling techniques, unique to this instrument.

Dated: August 22, 2011.
Gregory W. Campbell,
Director, Subsidies Enforcement Office, Import Administration.

[FR Doc. 2011-21757 Filed 8-24-11; 8:45 am]

BILLING CODE 3510-DS-P